DEPARTMENT OF ENERGY

Federal Energy Regulatory Commission

[Project No. 14108-002]

Western Minnesota Municipal Power Agency; Notice of Surrender of Preliminary Permit

Take notice that Western Minnesota Municipal Power Agency, permittee for the proposed Mississippi Lock and Dam, Iowa—Hydroelectric Water Power Project, has requested that its preliminary permit be terminated. The permit was issued on July 5, 2011, and would have expired on June 30, 2016.¹ The project would have been located at the existing U.S. Army Corps of Engineers' (Corps) Mississippi River Lock and Dam No. 15, in Rock Island and Scott Counties near Davenport, Iowa.

¹ Western Minnesota Municipal Power Agency, 136 FERC ¶ 62,005 (2011).

The preliminary permit for Project No. 14108 will remain in effect until the close of business, June 24, 2016. But, if the Commission is closed on this day, then the permit remains in effect until the close of business on the next day in which the Commission is open.² New applications for this site may not be submitted until after the permit surrender is effective.

² 18 CFR 385.2007(a)(2) (2014).

Dated: May 25, 2016.
Kimberly D. Bose,
Secretary.

[FR Doc. 2016-12831 Filed 5-31-16; 8:45 am]

BILLING CODE 6717-01-P